DEPARTMENT OF TRANSPORTATION

Coast Guard

33 CFR Part 117

[CGD 11-99-013]

RIN-2115-AE47

Drawbridge Operation Regulations; Oakland Inner Harbor Tidal Canal, Alameda County, CA

AGENCY: Coast Guard, DOT.

ACTION: Interim final rule; request for comments.

SUMMARY: The Commander, Eleventh Coast Guard District changes the operating regulations for the railroad drawbridge and three highway drawbridges crossing the Oakland Inner Harbor Tidal Canal (Oakland Estuary), between Oakland and Alameda, California. The bridges are: Alameda County highway bridges at Park Street, mile 5.2; Fruitvale Avenue, mile 5.6; High Street, mile 6.0; and the Army Corps of Engineers railroad bridge, mile 5.6 at Fruitvale Avenue. This interim rule will more accurately align rush-hour closure periods of the drawbridges to the present needs of commuting land traffic, while continuing to meet the reasonable needs of navigation on the waterway. It states the above named bridges shall open on signal, except that, from 8 a.m. to 9 a.m. and 4:30 p.m. to 6:30 p.m. Monday through Friday except Federal holidays, the draw need not be opened for the passage of vessels. It also incorporates an administrative change to correct the waterway mile-points of the affected bridges to coincide with existing U.S. Army Corps of Engineers measurements of the waterway.

DATES: This interim rule becomes effective on May 11, 2001. Comments must be received on or before July 10, 2001.

ADDRESSES: Comments may be mailed or hand-delivered to: Commander (oan-2), Eleventh Coast Guard District, Bldg. 50-6, Coast Guard Island, Alameda, CA 94501-5100. The Commander (oan-2), maintains the public docket for this rulemaking.

FOR FURTHER INFORMATION CONTACT: Mr. David H. Sulouff, Chief, Bridge Section, Eleventh Coast Guard District, Building 50-6, Coast Guard Island, Alameda, CA 94501-5100, phone (510) 437-3516.

SUPPLEMENTARY INFORMATION:

Request for Comments

The Coast Guard encourages all interested persons to participate in this interim rulemaking by submitting written data, views, or arguments. Persons submitting comments should identify this rulemaking (CGD 11-99-013), the specific section of the rule to which each comment applies, and the reason for each comment. All comments and attachments must be submitted in an unbound format, no larger than 8½ × 11 inches, suitable for copying. Persons wanting acknowledgment of receipt of comments should enclose a stamped, self-addressed postcard or envelope. All comments and other materials referenced in this notice will be available for inspection and copying at the Coast Guard location under ADDRESSES, between 6:30 a.m. and 4 p.m. Monday through Friday except Federal holidays. The Coast Guard will consider all comments and material received during the comment period and may change this rule in view of them.

Public Hearing

The Coast Guard plans no public hearing. Interested persons may request a public hearing by writing to the Coast Guard at the address under ADDRESSES. The request should include the reasons why a hearing would be beneficial. If it determines that the opportunity for oral presentations will aid in this rulemaking, the Coast Guard will hold a public hearing at a time and place to be announced by a later notice in the Federal Register.

Background and Purpose

The existing governing regulation, 33 CFR 117.181, specifies that the drawbridges need not open for the passage of vessels from 7:30 a.m. to 8:30 a.m. and 3:45 p.m. to 5:45 p.m. Monday through Friday, except Federal holidays. The Coast Guard consulted with navigation, the city of Alameda and Alameda County to determine if the bridge closure times could be changed to improve commuting conditions for land traffic. Average daily traffic counts were obtained for the Park Street drawbridge, as it is the most congested. Waterway traffic and requests for bridge openings were also analyzed. On November 12, 1999, a Notice of Proposed Rulemaking (NPRM), CGD11-99-013, in the Federal Register (64 FR 61562) identified proposed commute closure periods during which all Oakland Estuary bridges may remain closed to navigation to more adequately accommodate commute traffic, while continuing to meet the reasonable needs of navigation. It proposed altering the existing governing regulation by stating these draws shall open on signal; except that from 8:30 a.m. to 9:30 a.m. and 5 p.m. to 7 p.m. Monday through Friday except Federal holidays, the draws need not be opened for the passage of vessels. Eleven persons commented. Two indicated no objection. One indicated differences in congestion times at different drawbridges. The remaining comments proposed increasing the duration of closures and creating noon-time, rush-hour closure periods; requiring collapsible masts on all new boats and retrofits of all existing boats; requiring vessels to access the waterway via the San Leandro Channel (1-3 foot depth at low tide); or relocating businesses upstream of the estuary bridges. These remaining comments have been determined not to meet the reasonable needs of navigation. The city of Alameda provided additional highway traffic counts for all estuary bridges. Assessment of peak congestion at the three highway bridges in 15-minute increments demonstrated a single hour closure from 8 a.m. to 9 a.m. and a two-hour closure from 4:30 p.m. to 6:30 p.m. would more accurately accommodate highway rush hour traffic. A review of bridge opening data revealed a temporary 200 percent increase in openings during several months preceding the comment period (July 1998), due to a one-time waterway improvement project. The U.S. Army Corps of Engineers was consulted and has indicated there is no similar activity planned in the foreseeable future.

Discussion of Interim Rule

This Interim Rule incorporates an administrative change to correct the waterway mile-points of the affected bridges to coincide with existing U.S. Army Corps of Engineers measurements of the waterway. The new rule will read Park Street Bridge, mile 5.2 vice the existing rule mile 7.3; Fruitvale Avenue mile 5.6 vice the existing rule mile 7.7; High Street mile 6.0 vice the existing rule 8.1; and the U.S. army Corps of Engineers railroad bridge Fruitvale Avenue mile 5.6 vice the existing rule mile 7.7. This Interim Rule also amends the existing regulation to adjust the rush-hour periods when the Oakland Estuary bridges need not open for the passage of vessels. It states the above named bridges shall open on signal, except that, from 8 a.m. to 9 a.m. and 4:30 p.m. to 6:30 p.m. Monday through Friday except Federal holidays, the draw need not be opened for the passage of vessels. This changes the time period in the existing rule, 7:30 a.m. to 8:30 and 3:45 p.m. to 5:45 p.m., for when the bridge need not open on signal. The proposed change is expected to improve highway traffic conditions during peak rush hours, while not adversely impacting navigation on the waterway.

Regulatory Evaluation

This rule is not a “significant regulatory action” under section 3(f) of Executive Order 12866 and does not require an assessment of potential costs and benefits under section 6(a)(3) of that order. It has been exempted from review by the Office of Management and Budget under that order. It is not “significant” under the Department of Transportation Regulatory Policies and Procedures (DOT) (44 FR 11040, February 26, 1979). The Coast Guard expects the impact of this rule to be so minimal that a full Regulatory Evaluation under paragraph 10(e) of the regulatory policies and procedures of DOT is unnecessary. This rule is merely shifting the time the bridge need not open on signal to coincide with rush hour traffic it is neither extending or shortening the closure period.

Small Entities

Under the Regulatory Flexibility Act (5 U.S.C. 601 et seq.), the Coast Guard must consider whether this rule will have a significant economic impact on a substantial number of small entities. The term “Small entities” may include small businesses and not-for profit organizations that are independently owned and operated and are not dominant in their respective fields, and governmental jurisdictions with populations less than 50,000. As set forth in the Background and Purpose section this rule was preceded by a Notice of Proposed Rule making no negative comments were received by small entities regarding this rule change. Therefore, the Coast Guard certifies under 5 U.S.C. 605(b) that this rule, if adopted, is not expected to have a significant economic impact on any substantial number of small entities. If you think that your business, organization, or governmental jurisdiction qualifies as a small entity and that this rule will have a significant impact on it, please submit a comment. In your comment, explain why you think it qualifies and how and to what degree this rule would economically affect it.

Assistance for Small Entities

In accordance with 213(a) of the Small Business Regulatory Enforcement Fairness Act of 1996 (Public Law. 104-121), the Coast Guard wants to assist small entities in understanding this Interim Rule so that they can better evaluate its effects on them and participate in the rule making process. If your small business or organization is affected by this rule and you have questions concerning its provisions or options for compliance, please contact the U.S. Coast Guard using information in Addresses above.

Collection of Information

This rule contains no collection of information requirements under the Paperwork Reduction Act of 1995 (44 U.S.C. 3501 et seq.).

Federalism

The Coast Guard has analyzed this rule in accordance with the principles and criteria contained in Executive Order 13132 and has determined it does not have implications of federalism under that order.

Unfunded Mandates

The Unfunded Mandates Reform Act of 1995 (2 U.S.C. 1531-1538), requires Federal agencies to assess the effects of their regulatory actions not specifically required by law. In particular, the Act addresses actions that may result in the expenditure by a State, local, or tribal government, in aggregate, or by the private sector of $100,000,000 or more in any one year. Though this rule will not result in such an expenditure, the effects of this rule are discussed elsewhere in this preamble.

Taking of Private Property

This rule will not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not concern an environmental risk to health or risk to safety that may disproportionately affect children.

Environment

The Coast Guard considered the environmental impact of this rule and concluded that under Commandant Instruction M16475.1C, Figure 2-1, paragraph 32(e), this rule is categorically excluded from further environmental documentation, because it is a Bridge Administration Program action involving the promulgation of operating requirements or procedures for a drawbridge. A Categorical Exclusion Determination is available in the docket for inspection or copying where indicated under ADDRESSES.

List of Subjects in 33 CFR Part 117

Bridges.

For the reasons set out in the preamble, the Coast Guard amends Part 117 of Title 33, Code of Federal Regulations, as follows:

PART 117—DRAWBRIDGE OPERATION REGULATIONS

1. The authority citation for Part 117 continues to read as follows:

Authority: 33 U.S.C. Sec. 499; 49 CFR 1.46; 33 CFR 1.05-1(g); section 117.225 also issued under the authority of Pub. L. 102-587, 106 Stat. 5039.

2. Section 117.181 is amended to read as follows:

§ 117.181 Oakland Inner Harbor Tidal Canal.

The draws of the Alameda County highway drawbridges at Park Street, mile 5.2; Fruitvale Avenue, mile 5.6; and High Street, mile 6.0; and the U.S. Army Corps of Engineers railroad drawbridge, mile 5.6 at Fruitvale Avenue, shall open on signal; except that, from 8 a.m. to 9 a.m. and 4:30 p.m. to 6:30 p.m. Monday through Friday except Federal holidays, the draws need not be opened for the passage of vessels. However, the draws shall open during the above closed periods for vessels which must, for reasons of safety, move on a tide or slack water, if at least two hours notice is given. The draws shall open as soon as possible for vessels in distress and emergency vessels, including commercial vessels engaged in rescue or emergency salvage operations.

Dated: March 29, 2001.
E.R. Riutta,
U.S. Coast Guard, Commander, Eleventh Coast Guard District.

[FR Doc. 01-8895 Filed 4-10-01; 8:45 am]

BILLING CODE 4910-15-P